COMMISSION ON CIVIL RIGHTS

Notice of Public Meetings of the Ohio Advisory Committee to the U.S. Commission on Civil Rights

AGENCY: U.S. Commission on Civil Rights.

ACTION: Notice of virtual business meetings.

SUMMARY: Notice is hereby given, pursuant to the provisions of the rules and regulations of the U.S. Commission on Civil Rights (Commission) and the Federal Advisory Committee Act, that the Ohio Advisory Committee (Committee) to the U.S. Commission on Civil Rights will hold public meetings via Zoom. The purpose of the meetings is to review and approve a project proposal for the Committee's forthcoming study of antisemitism in Ohio, and to begin planning for related public briefings.

DATES:

Friday, April 11, 2025, from 12:30 p.m. to 1:30 p.m. Eastern Time.

Friday, May 2, 2025, from 12:00 p.m. to 1:00 p.m. Eastern Time.

ADDRESSES: The meetings will be held via Zoom.

April 11—Registration Link (Audio/Visual): https://tinyurl.com/5bpz7yd5.

April 11—Join by Phone (Audio Only): 1-833-435-1820 USA Toll Free; Webinar ID: 160 070 6172 #.

May 2—Registration Link (Audio/Visual): https://tinyurl.com/34vaydm5.

May 2—Join by Phone (Audio Only): 1-833-435-1820 USA Toll Free; Webinar ID: 160 061 6799 #.

FOR FURTHER INFORMATION CONTACT: Melissa Wojnaroski, Designated Federal Officer, at mwojnaroski@usccr.gov or 1-202-618-4158.

SUPPLEMENTARY INFORMATION: These Committee meetings are available to the public through the registration link above. Any interested members of the public may attend these meetings. An open comment period will be provided to allow members of the public to make oral statements as time allows. Pursuant to the Federal Advisory Committee Act, public minutes of the meetings will include a list of persons who are present at the meeting. If joining via phone, callers can expect to incur regular charges for calls they initiate over wireless lines, according to their wireless plan. The Commission will not refund any incurred charges. Callers will incur no charge for calls they initiate over land-line connections to the toll-free telephone number. Closed captioning is available by selecting “CC” in the meeting platform. To request additional accommodations, please email ebohor@usccr.gov at least 10 business days prior to each meeting.

Members of the public are entitled to submit written comments; the comments must be received in the regional office within 30 days following a scheduled meeting. Written comments may be emailed to Evelyn Bohor at ebohor@usccr.gov. Persons who desire additional information may contact the Regional Programs Coordination Unit at 1-312-353-8311.

Records generated from these meetings may be inspected and reproduced at the Regional Programs Coordination Unit Office, as they become available, both before and after each meeting. Records of the meetings will be available via the file sharing website, https://bit.ly/4g3IB4K. Persons interested in the work of this Committee are directed to the Commission's website, http://www.usccr.gov, or may contact the Regional Programs Coordination Unit at ebohor@usccr.gov.

Agenda

I. Welcome and Roll Call

II. Approval of Minutes

III. Announcements and Updates

IV. Discussion

a. Project Proposal

b. Begin planning for public briefings on antisemitism in Ohio

V. Next steps

VI. Public Comment

VII. Adjournment

Dated: March 11, 2025.
David Mussatt,
Supervisory Chief, Regional Programs Unit.

[FR Doc. 2025-04138 Filed 3-14-25; 8:45 am]

BILLING CODE P